FEDERAL RESERVE SYSTEM

Agency Information Collection Activities: Announcement of Board Approval Under Delegated Authority and Submission to OMB

SUMMARY: Background

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Michelle Shore—Division of Research and Statistics, Board of Governors of the Federal Reserve System, Washington, DC 20551 (202-452-3829)

OMB Desk Officer—Alexander T. Hunt—Office of Information and Regulatory Affairs, Office of Management and Budget, New Executive Office Building, Room 10235, Washington, DC 20503.

Final approval under OMB delegated authority of the extension for three years, without revision, of the following reports:

1. Report Title: Recordkeeping and Disclosure Requirements Associated with the Guidance on Response Programs for Unauthorized Access to Customer Information.

Agency Form Number: FR 4100.

OMB Control Number: 7100-0309.

Frequency: Develop customer notice, one-time; update and maintain customer notice, annually; Incident notification, event-generated.

Reporters: Financial institutions.

Annual Reporting Hours: 62,135.

Estimated Average Hours per Response: Develop customer notice, 24; Update and maintain customer notice, 8; Incident notification, 29.

Number of Respondents: Develop customer notice, 102; Update and maintain customer notice, 6,957; Incident notification, 139.

General Description of Report: This information collection is mandatory (15 U.S.C. 6801(b)). Since the Federal Reserve does not collect information associated with the FR 4100, any issue of confidentiality would not generally be an issue. However, confidentiality may arise if the Federal Reserve were to obtain a copy of a customer notice during the course of an examination or were to receive a copy of a Suspicious Activity Report (SAR; FR 2230; OMB No. 7100-0212). In such cases the information would be exempt from disclosure to the public under the Freedom of Information Act (5 U.S.C 552(b)(3), (4), and (8)). Also, a federal employee is prohibited by law from disclosing an SAR or the existence of an SAR (31 U.S.C. 5318(g)).

Abstract: Recent trends in customer information theft and the accompanying misuse of that information have led to the issuance of a supplemental interpretation of existing information technology-related security guidelines applicable to financial institutions. The supplemental guidelines are designed to facilitate timely and relevant notification of affected customers and the appropriate regulatory authority of the financial institutions. The guidelines provide specific direction regarding the nature and content of customer notice.

Current Actions: On March 6, 2008, the Federal Reserve published a notice in the Federal Register (73 FR 12176) requesting public comment for sixty days on the extension, without revision, of the ID-Theft Guidance. The comment period for this notice expired on May 5, 2008. The Federal Reserve did not receive any comments.

2. Report Title: The Recordkeeping and Disclosure Requirement in Connection with Regulation DD (Truth in Savings).

Agency Form Number: Reg DD.

OMB Control Number: 7100-0271.

Frequency: Account disclosures, 500; Change in terms notices, 1,130; Prematurity notices, 1,015; Disclosures on periodic statements, 12; and Advertising, 12.

Reporters: State member banks.

Annual Reporting Hours: 176,177.

Estimated Average Hours per Response: Account disclosures, 1.5 minutes; Change in terms notices, 1 minute; Prematurity notices, 1 minute; Disclosures on periodic statements, 8 hours; and Advertising, 30 minutes.

Number of Respondents: 1,172.

General Description of Report: This information collection is mandatory (12 U.S.C. 4308)). Since the Federal Reserve does not collect any information, no issue of confidentiality arises.

Abstract: The Truth in Savings Act and Regulation DD require depository institutions to disclose yields, fees, and other terms concerning deposit accounts to consumers at account opening, upon request, and when changes in terms occur. Depository institutions that provide periodic statements are required to include information about fees imposed, interest earned, and the annual percentage yield (APY) earned during those statement periods. The act and regulation mandate the methods by which institutions determine the account balance on which interest is calculated. They also contain rules about advertising deposit accounts.

Current Actions: On March 6, 2008, the Federal Reserve published a notice in the Federal Register (73 FR 1276) requesting public comment for sixty days on the extension, without revision, of the recordkeeping and disclosure requirements of Regulation DD. The comment period for this notice expired on May 5, 2008. The Federal Reserve did not receive any comments.

Board of Governors of the Federal Reserve System, May 9, 2008.
Jennifer J. Johnson,
Secretary of the Board.

[FR Doc. E8-10780 Filed 5-14-08; 8:45 am]

BILLING CODE 6210-01-P